DEPARTMENT OF ENERGY

Federal Energy Regulatory Commission

Combined Notice of Filings # 1

July 10, 2009.

Take notice that the Commission received the following electric rate filings:

Docket Numbers: ER98-4515-010.

Applicants: Cadillac Renewable Energy LLC; Escanaba Paper Company.

Description: Cadillac Renewable Energy LLC request for Category 1 Seller designation in the Central region pursuant to section 35.36(a)(2) of the FERC's regulations and the regional schedule set forth in Order 697-A.

Filed Date: 06/30/2009.

Accession Number: 20090701-0012.

Comment Date: 5 p.m. Eastern Time on Tuesday, July 21, 2009.

Docket Numbers: ER09-1075-004.

Applicants: Falcon Energy LLC.

Description: Falcon Energy, LLC submits an Amended, Revised and Restated Application for Market-Based Rate Authorization and Request for Waivers and Blanket Authorizations and Request for Expedited Treatment of Falcon Energy, LLC.

Filed Date: 07/09/2009.

Accession Number: 20090709-0349.

Comment Date: 5 p.m. Eastern Time on Thursday, July 23, 2009.

Docket Numbers: ER09-1311-001.

Applicants: Entergy Arkansas, Inc.

Description: Entergy Services, Inc submits a errata to its notice of termination of Service Agreement No. 3.

Filed Date: 07/01/2009.

Accession Number: 20090702-0181.

Comment Date: 5 p.m. Eastern Time on Wednesday, July 22, 2009.

Docket Numbers: ER09-1283-001.

Applicants: The Energy Cooperative of Pennsylvania.

Description: Energy Cooperative of Pennsylvania, Inc submits an Amended Petition for Acceptance of Initial Tariff, waiver and Blanket Authority.

Filed Date: 07/09/2009.

Accession Number: 20090709-0348.

Comment Date: 5 p.m. Eastern Time on Thursday, July 30, 2009.

Docket Numbers: ER09-1415-000.

Applicants: ISO New England Inc.

Description: ISO New England Inc submits Filing of Installed Capacity Requirement, Hydro Quebec Interconnection Capability Credits and Related Values for the 2012-2013 Capability Year.

Filed Date: 07/07/2009.

Accession Number: 20090708-0148.

Comment Date: 5 p.m. Eastern Time on Tuesday, July 28, 2009.

Docket Numbers: ER09-1423-000.

Applicants: Verde Energy USA, Inc.

Description: Verde Energy USA, Inc submits an application for authorization to make wholesales sales of energy et al.

Filed Date: 07/08/2009.

Accession Number: 20090709-0343.

Comment Date: 5 p.m. Eastern Time on Wednesday, July 29, 2009.

Docket Numbers: ER09-1425-000.

Applicants: PacifiCorp.

Description: PacifiCorp submits Notice of Cancellation for Service Agreement 550 under PacifiCorp's Seventh Revised Volume 11 Open Access Transmission Tariff etc.

Filed Date: 07/09/2009.

Accession Number: 20090709-0344.

Comment Date: 5 p.m. Eastern Time on Thursday, July 30, 2009.

Docket Numbers: ER09-1426-000.

Applicants: Lehman Brothers Commodity Services Inc.

Description: Lehman Brothers Commodity Services Inc submits a Notice of Cancellation of First Revised FERC Electric Tariff 1 of LBCS.

Filed Date: 07/09/2009.

Accession Number: 20090709-0345.

Comment Date: 5 p.m. Eastern Time on Thursday, July 30, 2009.

Docket Numbers: ER09-1427-000.

Applicants: Southern Company Services, Inc.

Description: Southern Companies submits rollover network integration transmission service agreement under the Open Access Transmission of Southern Companies.

Filed Date: 07/09/2009.

Accession Number: 20090709-0346.

Comment Date: 5 p.m. Eastern Time on Thursday, July 30, 2009.

Docket Numbers: ER09-1428-000.

Applicants: Xcel Energy Operating Companies.

Description: Xcel Energy Services Inc submits the System Integration Coordination Services Agreement dated as of 2/1/09 between the United States et al.

Filed Date: 07/09/2009.

Accession Number: 20090709-0347.

Comment Date: 5 p.m. Eastern Time on Thursday, July 30, 2009.

Take notice that the Commission received the following open access transmission tariff filings:

Docket Numbers: OA07-39-005.

Applicants: Xcel Energy Services Inc.

Description: Supplemental Annual Report of Penalty Distributions for Xcel Energy Services Inc. under OA07-39, et al.

Filed Date: 07/07/2009.

Accession Number: 20090707-5068.

Comment Date: 5 p.m. Eastern Time on Tuesday, July 28, 2009.

Docket Numbers: OA08-71-005.

Applicants: Xcel Energy Services Inc.

Description: Supplemental Annual Report of Penalty Distributions for Xcel Energy Services Inc. under OA07-39, et al.

Filed Date: 07/07/2009.

Accession Number: 20090707-5068.

Comment Date: 5 p.m. Eastern Time on Tuesday, July 28, 2009.

Take notice that the Commission received the following public utility holding company filings:

Docket Numbers: PH09-19-000.

Applicants: Keenan Fort Detrick Energy, LLC.

Description: Waiver Notification of Keenan Fort Detrick Energy, LLC.

Filed Date: 07/09/2009.

Accession Number: 20090709-5094.

Comment Date: 5 p.m. Eastern Time on Thursday, July 30, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E9-17219 Filed 7-20-09; 8:45 am]

BILLING CODE 6717-01-P